DEPARTMENT OF COMMERCE

National Oceanic and Atmospheric Administration

[RTID 0648-XV119]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Research Steering Committee will hold a meeting.

DATES: The meeting will be held on Friday, November 22, 2019, from 10 a.m. to 12 p.m. See SUPPLEMENTARY INFORMATION for agenda details.

ADDRESSES: The meeting will take place over webinar with a telephone-only connection option. Details on how to connect to the webinar by computer and by telephone will be available at: http://www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is for the Research Steering Committee to review and provide feedback on the Council's draft Five-Year (2020-24) Research Priorities document. The draft document has been re-organized and prioritized based on feedback and input from the Council's Scientific and Statistical Committee (SSC), Monitoring Committees and Advisory Panels. Research Steering Committee recommendations will be incorporated into the draft document and provided to the Council prior to the December 2019 Council meeting when final review and approval is scheduled to take place.

A detailed agenda and background documents will be made available on the Council's website (www.mafmc.org) prior to the meeting.

Special Accommodations

The meeting is physically accessible to people with disabilities. Requests for sign language interpretation or other auxiliary aid should be directed to M. Jan Saunders, (302) 526-5251, at least 5 days prior to the meeting date.

Authority: 16 U.S.C. 1801 et seq.

Dated: October 29, 2019.
Tracey L. Thompson,
Acting Deputy Director, Office of Sustainable Fisheries, National Marine Fisheries Service.

[FR Doc. 2019-23909 Filed 10-31-19; 8:45 am]

BILLING CODE 3510-22-P